DEPARTMENT OF TRANSPORTATION

Federal Aviation Administration

14 CFR Part 39

[Docket No. 99-SW-78-AD]

Airworthiness Directives; Eurocopter France Model AS 332C, L, L1, and L2 Helicopters

AGENCY: Federal Aviation Administration, DOT.

ACTION: Notice of proposed rulemaking (NPRM).

SUMMARY: This document proposes the supersedure of an existing airworthiness directive (AD), applicable to Eurocopter France Model AS 332C, L, L1, and L2 helicopters, that currently requires conducting a filter clogging warning test, and, if necessary, replacing a jammed valve with an airworthy valve. This action would require the same corrective actions as the existing AD and would add another fuel filter part number to the applicability. This proposal is prompted by jammed fuel filter by-pass valves. The actions specified by the proposed AD are intended to prevent engine power loss due to fuel starvation, an engine flameout, and a subsequent forced landing.

DATES: Comments must be received on or before June 13, 2000.

ADDRESSES: Submit comments in triplicate to the Federal Aviation Administration (FAA), Office of the Regional Counsel, Southwest Region, Attention: Rules Docket No. 99-SW-78-AD, 2601 Meacham Blvd., Room 663, Fort Worth, Texas 76137. You may also send comments electronically to the Rules Docket at the following address: 9-asw-adcomments@faa.gov. Comments may be inspected at the Office of the Regional Counsel between 9:00 a.m. and 3:00 p.m., Monday through Friday, except Federal holidays.

The service information referenced in the proposed AD may be obtained from American Eurocopter Corporation, Technical Support, 2701 Forum Drive, Grand Prairie, Texas 75053-4005, telephone 800-232-0323, fax 972-641-3527. This information may be examined at the FAA, Office of the Regional Counsel, Southwest Region, 2601 Meacham Blvd., Room 663, Fort Worth, Texas.

FOR FURTHER INFORMATION CONTACT: Shep Blackman, Aerospace Engineer, FAA, Rotorcraft Directorate, Regulations Group, Southwest Region, 2601 Meacham Blvd, Fort Worth, Texas 76137, telephone (817) 222-5296, fax (817) 222-5961.

SUPPLEMENTARY INFORMATION:

Comments Invited

Interested persons are invited to participate in the making of the proposed rule by submitting such written data, views, or arguments as they may desire. Communications should identify the Rules Docket number and be submitted in triplicate to the address specified above. All communications received on or before the closing date for comments, specified above, will be considered before taking action on the proposed rule. The proposals contained in this notice may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their mailed comments submitted in response to this notice must submit a self-addressed, stamped postcard on which the following statement is made: “Comments to Docket No. 99-SW-78-AD.” The postcard will be date stamped and returned to the commenter.

Availability of NPRMs

Any person may obtain a copy of this NPRM by submitting a request to the FAA, Regional Counsel, Southwest Region, Attention: Rules Docket No. 99-SW-78-AD, 2601 Meacham Blvd., Room 663, Fort Worth, Texas 76137.

Discussion

On June 8, 1999, the FAA issued AD 99-13-02, Amendment 39-11195 (64 FR 32399, June 17, 1999), applicable to Eurocopter France Model AS 332C, L, L1, and L2 helicopters. AD 99-13-02 requires, within 25 hours time-in-service (TIS) and any subsequent time that the fuel filter clogged caution lights illuminate, conducting a filter clogging warning test, and, if necessary, replacing a jammed valve with an airworthy valve. That action was prompted by reports of jammed fuel filter by-pass valves discovered during routine maintenance. That condition, if not corrected, could result in engine power loss due to fuel starvation, an engine flameout, and a subsequent forced landing.

Since the issuance of that AD, the Direction Generale De L'Aviation Civile (DGAC) has issued revised AD's that add another fuel filter to the previous applicability list. The revised DGAC AD's apply to helicopters with the following fuel filters installed:

Vendor Part No. | Eurocopter France Part No.
-4020P25 | (704A44620031)
-4020P25-1 | (704A44620034)
-4020P25-2 | (704A44620035)
-4020P25-3 | (704A44620036)
-4020P25-11 | (704A44620037)

The DGAC, the airworthiness authority for France, notified the FAA that an unsafe condition may exist on Eurocopter France Model AS 332C, C1, L, L1, and L2 helicopters. The DGAC advises that jammed valves could result in power loss due to fuel starvation, which could cause one or both engines to flameout. The DGAC issued AD's 1998-318-071(A)R2 and 1998-319-012(A)R2, both dated July 28, 1999, applicable to Eurocopter France Model AS 332C, C1, L, L1, and L2 helicopters. (Model AS 332C1 does not have a United States type certificate.)

The FAA has reviewed Eurocopter France Service Telex 00087 (Service Bulletin No. 01.00.56 R1) dated June 17, 1999, which describes procedures for verifying that the valve will correctly open and close in each engine fuel filter and conducting a filter clogging warning test on helicopters with certain fuel filters installed.

Since an unsafe condition has been identified that is likely to exist or develop on other Eurocopter France Model AS 332C, L, L1, and L2 helicopters of the same type designs, the proposed AD would supersede AD 99-13-02. In addition to the requirements in AD 99-13-02, the proposed AD would add a fuel filter, P/N 704A44620037, to the applicability. The actions are required to be accomplished in accordance with the service telex described previously.

The FAA estimates that one helicopter of U.S. registry would be affected by the proposed AD, that it would take approximately 3 work hours to accomplish the proposed actions, and that the average labor rate is $60 per work hour. Based on these figures, the total cost impact of the proposed AD on U.S. operators is estimated to be $180, assuming no valve would need to be replaced.

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-11195 (64 FR 32399, June 17, 1999) and by adding a new airworthiness directive (AD) to read as follows:

Eurocopter France: Docket No. 99-SW-78-AD. Supersedes AD 99-13-02, Amendment 39-11195, Docket No. 99-SW-17-AD.

Applicability: Eurocopter France Model AS 332C, L, L1, and L2 helicopters, with any of the following part-numbered fuel filters installed, certificated in any category:

Vendor Part No. | Eurocopter France Part No.
-4020P25 | (704A44620031)
-4020P25-1 | (704A44620034)
-4020P25-2 | (704A44620035)
-4020P25-3 | (704A44620036)
-4020P25-11 | (704A44620037)

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (d) of this AD. The request should include an assessment of the effect of the modification, alteration, or repair on the unsafe condition addressed by this AD; and if the unsafe condition has not been eliminated, the request should include specific proposed actions to address it.

Compliance: Required as indicated, unless accomplished previously.

To prevent power loss due to fuel starvation, an engine flameout, and a subsequent forced landing, accomplish the following:

(a) Within 25 hours time-in-service (TIS) and after any subsequent flight during which either fuel filter clogged caution light illuminates:

(1) Verify that the fuel filter by-pass valve (valve) is correctly closed in each engine fuel filter in accordance with paragraph CC.1), Eurocopter France Service Telex 00087 (Service Bulletin No. 01.00.56 R1), dated June 17, 1999 (SB).

(2) After replacing both filter cartridges with airworthy filter cartridges, each helicopter may be operated on a one-time direct flight to a location where the requirements of paragraph (a) of this AD must be accomplished before further flight.

(3) Conduct a “filter” clogging warning test (test) in accordance with paragraphs CC.2), CC.2)A) and CC.2)B) of the SB.

(4) If a jammed valve (open or closed) is detected during the test, clean the valve in accordance with paragraph CC.2)B) of the SB or replace the valve with an airworthy valve. Repeat the requirements of paragraph (a)(3) of this AD.

(5) When the test result is satisfactory, repeat the requirements of paragraph (a)(1) of this AD.

(b) Within 25 hours TIS, insert a copy of this AD into the Rotorcraft Flight Manual (RFM) or make the following pen and ink addition to the RFM Emergency Procedure for fuel filter clogged caution light illumination: “If both fuel filter clogged caution lights illuminate, land as soon as practicable.”

(c) If both filter clogged caution lights illuminate, after landing, either:

(1) Accomplish the requirements of paragraph (a) of this AD before further flight, or,

(2) Replace both filter cartridges with airworthy filter cartridges and conduct a one-time direct flight to a location where the requirements of paragraph (a) of this AD must be accomplished before further flight.

(d) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 2: Information concerning the existence of approved alternative methods of compliance with this AD, if any, may be obtained from the Manager, Regulations Group.

(e) Special flight permits will not be issued.

Note 3: The subject of this AD is addressed in Direction Generale De L'Aviation Civile (France) AD's 1998-318-071(A)R2 and 1998-319-012(A)R2, both dated July 28, 1999.

Issued in Fort Worth, Texas, on April 7, 2000.
Henry A. Armstrong,
Manager, Rotorcraft Directorate, Aircraft Certification Service.

[FR Doc. 00-9360 Filed 4-13-00; 8:45 am]

BILLING CODE 4910-13-P